DEPARTMENT OF THE INTERIOR

National Park Service

Notice of Intent to Repatriate a Cultural Item in the Possession of the Peabody Museum of Archaeology and Ethnology, Harvard University, Cambridge, MA

AGENCY: National Park Service, Interior.

ACTION: Notice.

Notice is hereby given under the Native American Graves Protection and Repatriation Act (NAGPRA), 43 CFR 10.10 (a)(3), of the intent to repatriate a cultural item in the possession of the Peabody Museum of Archaeology and Ethnology, Harvard University, Cambridge, MA, that meets the definition of “unassociated funerary object” under Section 2 of the Act.

This notice is published as part of the National Park Service’s administrative responsibilities under NAGPRA, 43 CFR 10.2 (c). The determinations within this notice are the sole responsibility of the museum, institution, or Federal agency that has control of this cultural item. The National Park Service is not responsible for the determinations within this notice.

The cultural item is one headdress made of metal, copper, leather, and fiber.

In 1886, a “Tlingit” headdress was recovered from a “shaman’s grave,” on Baranof Island, 17 miles from Sitka, AK, by Walter G. Chase, who donated the cultural item to the Peabody Museum of Archaeology and Ethnology in 1891.

Peabody Museum documentation indicates that this cultural item is Tlingit. Research and consultation with the Sealaska Corporation on behalf of the Kiks.adi Clan has indicated that this headdress (identified as Kiks.adi Ixt’ Shaadaa) was recovered from an area considered to be the traditional territory of the Kiks.adi Clan, a Raven Clan of Tlingit people, who are represented by the Sealaska Corporation.

Based on the above-mentioned information, officials of the Peabody Museum of Archaeology and Ethnology have determined that, pursuant to 43 CFR 10.2 (d)(2)(ii), this one cultural item is reasonably believed to have been placed with or near individual human remains at the time of death or later as part of the death rite or ceremony and is believed, by a preponderance of the evidence, to have been removed from a specific burial site of a Native American individual. Officials of the Peabody Museum of Archaeology and Ethnology also have determined that, pursuant to 43 CFR 10.2 (e), there is a relationship of shared group identity that can be reasonably traced between this cultural item and the Kiks.adi Clan of Tlingit people, who are represented by the Sealaska Corporation.

This notice has been sent to officials of the Angoon Community Association; Central Council of the Tlingit & Haida Indian Tribes; Kake Tribal Council; Petersburg Indian Association; Sealaska Corporation; Shaan Set, Inc.; and the Sitka Tribe of Alaska. Representatives of any other Indian tribe that believes itself to be culturally affiliated with this unassociated funerary object should contact Patricia Capone, Repatriation Coordinator, Peabody Museum of Archaeology and Ethnology, Harvard, 11 Divinity Avenue, Cambridge, MA 02138, telephone (617) 496-3702, before April 24, 2002. Repatriation of this unassociated funerary object to the Sealaska Corporation on behalf of the Kiks.adi Clan may begin after that date if no additional claimants come forward.

Dated: February 5, 2002.
Robert Stearns,
Manager, National NAGPRA Program.

[FR Doc. 02-7004 Filed 3-22-02; 8:45 am]

BILLING CODE 4310-70-S